FEDERAL COMMUNICATIONS COMMISSION

47 CFR Part 73

[DA 05-756; MB Docket No. 05-139, RM-11218]

Radio Broadcasting Services; Americus and Emporia, KS

AGENCY: Federal Communications Commission.

ACTION: Proposed rule.

SUMMARY: This document sets forth a proposal to amend the FM Table of Allotments, Section 73.202(b) of the Commission's rules, 47 CFR 73.202(b). The Audio Division requests comment on a petition filed by Dana J. Puopolo. Petitioner proposes the allotment of Channel 240A at Americus, Kansas, as that community's first local service. In order to accommodate the allotment of Channel 240A at Americus, Puopolo further proposes the substitution of Channel 244A for Channel 241A, Emporia, Kansas, at the existing reference coordinates, and he commits to compensate the licensee for expenses incurred in moving from Channel 241A to Channel 244A. The proposed coordinates for Channel 240A at Americus, Kansas, are 38-25-13 NL and 96-21-12 WL. The allotment will require a site restriction of 12.5 km (7.8 miles) southwest of Americus. The proposed coordinates for Channel 244A at Emporia, Kansas, are 38-24-21 NL and 96-14-13 WL. The allotment will require a site restriction of 4.9 km (3.0 miles) west of Emporia (current licensed site).

DATES: Comments must be filed on or before May 10, 2005, and reply comments on or before May 25, 2005.

ADDRESSES: Federal Communications Commission, Washington, DC 20554. In addition to filing comments with the FCC, interested parties should serve counsel for the petitioner as follows: Dana J. Puopolo, 2134 Oak Street, Unit C, Santa Monica, California 90495.

FOR FURTHER INFORMATION CONTACT: Deborah A. Dupont, Media Bureau (202) 418-7072.

SUPPLEMENTARY INFORMATION: This is a synopsis of the Commission's Notice of Proposed Rule Making, MB Docket No. 05-139; adopted March 21, 2005, and released March 23, 2005. The full text of this Commission document is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Kansas, is amended by adding Americus, Channel 240A, and removing Channel 241A and adding Channel 244A at Emporia.

Federal Communications Commission
John A. Karousos,
Assistant Chief, Audio Division, Media Bureau.

[FR Doc. 05-7075 Filed 4-12-05; 8:45 am]

BILLING CODE 6712-01-P